DEPARTMENT OF ENERGY

Federal Energy Regulatory Commission

[Docket No. CP13-63-000]

CenterPoint Energy Gas Transmission Company, LLC; Notice of Request Under Blanket Authorization

Take notice that on January 31, 2013, CenterPoint Energy Gas Transmission Company, LLC (CenterPoint), P.O. Box 21743, Shreveport, Louisiana 71151, filed in Docket No. CP13-63-000, a prior notice request pursuant to sections 157.205, 157.208(b), 157.211(a)(2) and 157.216(b)(2) of the Commission's regulations under the Natural Gas Act (NGA), and CenterPoint's blanket certificate authorized in Docket Nos. CP82-384-000 and CP82-384-001. CenterPoint seeks authorization to replace approximately 10.8 miles of its Line A with 12 miles of 12-inch diameter pipeline, including the installation of delivery taps and appurtenant facilities. CenterPoint also seeks to abandon the entire 10-mile Line A, all located in Nevada and Hempstead Counties, Arkansas. CenterPoint will not terminate any of its customers' service as the result to the proposed replacement and abandonments, all as more fully set forth in the application which is on file with the Commission and open for public inspection.

Any questions regarding the applications should be directed to Michelle Willis, Manager, Regulatory & Compliance, CenterPoint Energy Gas Transmission Company, LLC, P.O. Box 21743, Shreveport, Louisiana 71151, or call 318-429-3708.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests, and interventions via the internet in lieu of paper. See 18 CFR 385.2001(a) (1) (iii) and the instructions on the Commission's Web site (www.ferc.gov) under the “e-Filing” link. Persons unable to file electronically should submit an original and 14 copies of the protest or intervention to the Federal Energy Regulatory Commission, 888 First Street NE., Washington, DC 20426.

Dated: February 12, 2013.
Kimberly D. Bose,
Secretary.

[FR Doc. 2013-03815 Filed 2-19-13; 8:45 am]

BILLING CODE 6717-01-P